DEPARTMENT OF ENERGY

Federal Energy Regulatory Commission

[Docket No. CP16-496-000]

Tennessee Gas Pipeline Company, L.L.C.; Notice of Schedule for Environmental Review of the Lone Star Project

On August 19, 2016, Tennessee Gas Pipeline Company, L.L.C. (Tennessee) filed an application in Docket No. CP16-496-000 requesting a Certificate of Public Convenience and Necessity pursuant to Section 7(c) of the Natural Gas Act to construct and operate certain natural gas pipeline facilities. The proposed project is known as the Lone Star Project (Project), and would allow Tennessee to provide firm incremental transportation service of up to 300 million cubic feet per day to the Corpus Christi Liquefaction, LLC facility currently under construction in San Patricio County, Texas.

On September 1, 2016 the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA—May 26, 2017

90-day Federal Authorization Decision Deadline—August 24, 2017

If a schedule change becomes necessary, additional notice will be provided so that the relevant agencies are kept informed of the Project's progress.

Project Description

Tennessee proposes to construct and operate the following facilities as part of the Project: (1) A new 10,915 horsepower compressor station (CS 3A) in San Patricio County, Texas; and (2) a new 20,500 horsepower compressor station (CS 11A) in Jackson County, Texas. The proposed facilities would be on Tennessee's existing Line 100. Tennessee proposes to begin construction of the Project by January 2018 and to place the facilities in service by January 1, 2019.

Background

On October 12, 2016, the Commission issued a Notice of Intent to Prepare an Environmental Assessment for the Proposed Lone Star Project and Request for Comments on Environmental Issues (NOI). The NOI was sent to affected landowners; federal, state, and local government agencies; elected officials; environmental and public interest groups; Native American tribes; other interested parties; and local libraries and newspapers. In response to the NOI, the Commission received comments from local residents and the U.S. Environmental Protection Agency. The primary issues raised by commenters are impacts associated with the proposed CS 11A site location and alternative site locations, air quality and noise impacts, nighttime lighting, surface water and groundwater impacts, industrialization and impacts on property values, environmental justice, and pipeline safety.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC Web site (www.ferc.gov). Using the “eLibrary” link, select “General Search” from the eLibrary menu, enter the selected date range and “Docket Number” excluding the last three digits (i.e., CP16-496), and follow the instructions. For assistance with access to eLibrary, the helpline can be reached at (866) 208-3676, TTY (202) 502-8659, or at FERCOnlineSupport@ferc.gov. The eLibrary link on the FERC Web site also provides access to the texts of formal documents issued by the Commission, such as orders, notices, and rule makings.

Dated: March 1, 2017.
Kimberly D. Bose,
Secretary.

[FR Doc. 2017-04373 Filed 3-6-17; 8:45 am]

BILLING CODE 6717-01-P